NATIONAL TRANSPORTATION SAFETY BOARD

Sunshine Act Meeting

TIME AND DATE: 9:30 a.m., Monday, August 27, 2012.

PLACE: NTSB Conference Center, 429 L'Enfant Plaza SW., Washington, DC 20594.

STATUS: The ONE item is open to the public.

MATTER TO BE CONSIDERED: 8349C Aviation Accident Brief—WPR11MA454: North American P-51D, N79111, Race 177, “The Galloping Ghost,” Reno, Nevada, September 16, 2011.

NEWS MEDIA CONTACT: Telephone: (202) 314-6100.

The press and public may enter the NTSB Conference Center one hour prior to the meeting for set up and seating.

Individuals requesting specific accommodations should contact Rochelle Hall at (202) 314-6305 by Friday, August 24, 2012.

The public may view the meeting via a live or archived webcast by accessing a link under “News & Events” on the NTSB home page at www.ntsb.gov.

Schedule updates including weather-related cancellations are also available at www.ntsb.gov.

FOR MORE INFORMATION CONTACT: Candi Bing, (202) 314-6403 or by email at bingc@ntsb.gov.

FOR MEDIA INFORMATION CONTACT: Terry Williams (202) 314-3126 or by email at williat@ntsb.gov.

Dated: Thursday, August 9, 2012.
Candi R. Bing,
Federal Register Liaison Officer.

[FR Doc. 2012-19882 Filed 8-9-12; 4:15 pm]

BILLING CODE 7533-01-P